DEPARTMENT OF THE INTERIOR

National Park Service

National Register of Historic Places; Notification of Pending Nominations

Nominations for the following properties being considered for listing in the National Register were received by the National Park Service before January 19, 2002. Pursuant to § 60.13 of 36 CFR part 60 written comments concerning the significance of these properties under the National Register criteria for evaluation may be forwarded by United States Postal Service, to the National Register of Historic Places, National Park Service, 1849 C St. NW, NC400, Washington, DC 20240; by all other carriers, National Register of Historic Places, National Park Service, 800 N. Capitol St.NW, Suite 400, Washington DC 20002; or by fax, 202-343-1836 . Written or faxed comments should be submitted by February 15, 2002.

Carol D. Shull,
Keeper of the National Register Of Historic Places.

COLORADO

Denver County

Kerr House, 1900 E. 7th Ave. Pkwy, Denver, 02000125

Pueblo County

St. John's Greek Orthodox Church, 1000-1010 Spruce St., Pueblo, 02000123

GEORGIA

Madison County

Paoli Historic District, Jct. of Cty Rd. 334 amd Cty Rd. 331, Paoli, 02000094

Morgan County

Buckhead Historic District, Roughly bounded by Main St. and Parks Mill, Seven Islands and Baldwin Dairy Rds., Buckhead, 02000097

Washington County

Sanderville Commercial and Industrial District, (Georgia County Courthouses TR) Roughly Jernigan, Gilmore, North Smith, East Haynes, W. Haynes, and Warthen Sts., Sandersville, 02000120

ILLINOIS

Adams County

Ursa Town Hall, 109 S. Warsaw St., Ursa, 02000095

Woodland Cemetery, 1020 S. Fifth St., Quincy, 02000096

Coles County

Illinois Central Railroad Depot, 1718 Broadway Ave., Mattoon, 02000098

Cook County

Aquitania, The, 5000 Marine Dr., Chicago, 02000099

Gunderson Historic District, Roughly bounded by Madison St., Harrison St. Gunderson St., and S. Ridgeland Ave., Oak Park, 02000100

LOUISIANA

Natchitoches Parish

Jones, Jerry, House, LA 484, Melrose, 02000124

MARYLAND

Calvert County

JEFFERSONIAN Gunboats NUMBER 137 and NUMBER 138 (Shipwreck), Address Restricted, St. Leonard, 02000122

MISSOURI

Maries County

Maries County Jail and Sheriff's House, Jct. of Fifth and Mill Sts., Vienna, 02000101

Osage County

Zewicki, Dr. Enoch T. and Amy, House, 402 E. Main St., Linn, 02000121

St. Louis Independent City

Delany Building, 1000-06 Loust St., St. Louis (Independent City), 02000102

MONTANA

Madison County

Byam, Dr. Don L., House, Main St., Nevada City, 02000103

Finney House, Jct. of Main and California Sts., Nevada City, 02000104

Yellowstone County

Electric Building, 113-115 Broadway, Billings, 02000105

NEVADA

Clark County

Sloan Petroglyph Site (Boundary Increase), Address Restricted, Las Vegas, 02000114

NEW JERSEY

Atlantic County

Doughty, John, House, 40 North Shore Rd., Absecon City, 02000107

Middlesex County

Roosevelt Hospital, 1 Roosevelt Dr., Edison, 02000109

Morris County

United States Army Steam Locomotice No. 4039, 1 Railroad Plaza, 10 West and Whippany Rd., Hanover Township, 02000108

Union County

Grace Episcopal Church, 600 Cleveland Ave., Plainfield City, 02000106

NORTH CAROLINA

Burke County

Sloan—Throneburg Farm, NC 1429, 0.3 mi. W of jct. with NC 1450, Chesterfield, 02000110

Lee County

Farish—Lambeth House, (Lee County MPS) 6308 Deep River Rd., Sanford, 02000111

Mitchell County

Gunter Building, 288 Oak Ave., Spruce Pine, 02000112

Surry County

Hauser Farm, 308 Horne Creek Farm Rd., Pinnacle, 02000113

SOUTH CAROLINA

Greenwood County

Old Greenwood Cemetery, 503 E. Cambridge Ave., Greenwood, 02000115

TEXAS

Brazos County

Bryan Municipal Building, (Bryan MRA) 111 E. 27th St., Bryan, 02000116

Harris County

Boulevard Oaks Historic District, Roughly bounded by North Blvd., South Blvd., Hazard and Mandell Sts., Houston, 02000117

VERMONT

Franklin County

Swanton School, (Educational Resources of Vermont MPS) 53 Church St., Swanton, 02000118

Windsor County

Atherton Farmstead, 31 Greenbush Rd., Cavendish, 02000119

A request for REMOVAL has been made for the following resources:

SOUTH DAKOTA

Jones County

Van Metre Bridge (Historic Bridges in South Dakota MPS) Local Rd. over the Bad R. Murdo vicinity, 93001296

WISCONSIN

Waukesha County

Waukesha County Airport Hangar 24151 W. Bluemound Rd., Waukesha, 98001596

[FR Doc. 02-2287 Filed 1-30-02; 8:45 am]

BILLING CODE 4310-70-P